DEPARTMENT OF THE INTERIOR

Bureau of Land Management

[LLCAC07000 L12200000.FV0000.16XL1109AF]

Notice of Intent to Change Fees in Campgrounds on Public Land in the Bishop Field Office, Inyo and Mono Counties, California

AGENCY: Bureau of Land Management, Interior.

ACTION: Notice.

SUMMARY: Pursuant to applicable provisions of the Federal Recreation Enhancement Act (REA), the Bureau of Land Management (BLM) Bishop Field Office proposes to change the fee structure at all five of its developed campgrounds in Inyo and Mono counties, California, and by this notice is announcing the opening of the comment period. The fee proposal results from analysis and planning direction provided by the Bishop Campground Business Plan, which outlines operational goals of the area and the purpose of the fee program.

DATES: To ensure that comments will be considered, the BLM must receive written comments on its proposal to change the fee structure at campgrounds in the Bishop Field Office by January 20, 2016. Effective 4 months after publication of this notice, the BLM Bishop Field Office would initiate changes in fee collection at its five developed campgrounds unless the BLM publishes a Federal Register notice to the contrary.

ADDRESSES: You may submit comments on this fee collection proposal by any of the following methods:

• Email: blm_ca_bishop_public_comment@blm.gov Please include “Fee Proposal” in the subject line of your email.

• Mail: Bureau of Land Management, Bishop Field Office, Attn: Rebecca Brooke, 351 Pacu Lane, Suite 100, Bishop, CA 93514

Copies of the fee proposal are available at the Bishop Field Office at the above address and online at http://www.blm.gov/ca/st/en/fo/bishop.html.

FOR FURTHER INFORMATION CONTACT: Steven Nelson, Field Manager, telephone: (760) 872-5011 or at the address above. Persons who use a telecommunication device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: Pursuant to the Federal Lands and Recreation Enhancement Act (REA) (16 U.S.C. 6801 et seq.), the Secretary may establish, modify, charge, and collect recreation fees on Federal recreation lands and waters. The Bishop Field Office currently manages five developed campgrounds: Tuttle Creek, Goodale Creek, Horton Creek, Pleasant Valley Pit, and Crowley Lake campgrounds. Together these campgrounds hold approximately 300 tent and recreational vehicle sites, all located in world-class settings along the Highway 395 corridor in close proximity to recreation destinations. The campgrounds are a good alternative to dispersed camping, which has been known to occur in environmentally sensitive areas.

Fees for the campgrounds were established in 2005 and have not changed since then. Long-term camping permits are currently available for four of the five campgrounds for either 30 days or the entire summer season (approximately 8 months). Tuttle Creek, Goodale Creek, Horton Creek, and Crowley Lake campgrounds underwent significant upgrades from 2010 to 2012, including installation of new toilets, fire rings, picnic tables, information boards, and other amenities. In addition, potable water was installed at three campgrounds and a horse corral and group campsite at one campground. The total cost of upgrades was $3.6 million.

The current and proposed fee schedule for the BLM Bishop Field Office campgrounds is:

Current and Proposed Daily Campground and Special Amenity Fees
Campground | Current | Proposed fee beginning in 2016 | Proposed future fee
Tuttle Creek | $5 | $8 | $5 to $10
Goodale Creek | $5 | $5 (no potable water) | $5 to $10
Horton Creek | $5 | $8 | $5 to $10
Pleasant Valley Pit | $2/car | $5/site (no potable water) | $5 to $10
Crowley Lake | $5 | $8 | $5 to $10
Tuttle Creek Group Site | $30 | $30 | $30 to $50
Tuttle Creek Horse Corral | $5 | $10 | $5 to $12
Dump Stations (Tuttle, Horton and Crowley) | $5 | $5 | $5 to $8

The goal of the proposed fee structure is to retain visitors in BLM campgrounds while providing a small amount of additional revenue for campground maintenance and improvements. By allowing the Field Manager discretion to set future fees within a range, there is flexibility as visitor use patterns and campground operating costs change over time.

The current and proposed fee structure for long-term camping permits are:

Current and Proposed Long Term Permit Duration and Fee
Permit duration | Current | Proposed
30-Day Permit | Currently available for Tuttle, Horton, Goodale, and Crowley $100 ($3.22/day) | Proposed availability for Tuttle, Goodale, Horton, Pleasant Valley Pit, and Crowley. $120 ($4/day).
90-Day Permit | Currently available for Tuttle, Horton, Goodale, and Crowley $300 for 8 months ($1.25/day) | Proposed availability for Tuttle, Horton, Goodale and Crowley. $300 for 90 consecutive days. ($3.33/day).

The objective of the proposed changes to long-term camping permits is to limit costs associated with long-term occupancy of campsites, thereby reducing the overall campground operation costs.

The BLM Bishop Field Office has outlined the rationale for this fee proposal in the Bishop Campground Business Plan. In order to inform the public, the Bishop Field Office conducted three open house events in July 2013. The Business Plan includes information on visitation to and operational expenses associated with the five campgrounds along with a market analysis of local campsites. The plan is available on line at: http://www.blm.gov/ca/st/en/fo/bishop.html.

This and future adjustments in the fees charged at these five campgrounds would be made in accordance with the plan and with notification and input from the Central California Resource Advisory Committee and the public. Fee amounts will be posted onsite and online at the Bishop Field Office Web site at: http://www.blm.gov/ca/st/en/fo/bishop.html.

The BLM welcomes public comments on this proposal. Before including your address, phone number, email address, or other personal identifying information in your comment, you should be aware that your entire comment—including your personal identifying information—may be made publicly available at any time. While you can ask us in your comment to withhold your personal identifying information from public review, we cannot guarantee that we will be able to do so.

Authority: 16 U.S.C. 6803 (b) and 43 CFR 2932.13

Danielle Chi,
Acting Deputy State Director.

[FR Doc. 2015-32039 Filed 12-18-15; 8:45 am]

BILLING CODE 4310-40-P